DEPARTMENT OF LABOR

Employment and Training Administration

[TA-W-56,203]

Metalforming Technologies, Inc., Safety Systems Division, Including On-Site Leased Workers of Addeco, Burton, MI; Dismissal of Application for Reconsideration

Pursuant to 29 CFR 90.18(C) an application for administrative reconsideration was filed with the Director of the Division of Trade Adjustment Assistance for workers at Metalforming Technologies, Inc., Safety Systems Division, including on-site leased workers of Addeco, Burton, Michigan. The application contained no new substantial information which would bear importantly on the Department's determination. Therefore, dismissal of the application was issued.

TA-W-56,203; Metalforming Technologies, Inc. Safety Systems Division, Including On-Site Leased Workers of Addeco, Burton, Michigan (August 26, 2005)

Signed at Washington, DC, this 31st day of August, 2005.
Terrance Clark,
Acting Director, Division of Trade Adjustment Assistance.

[FR Doc. E5-4879 Filed 9-7-05; 8:45 am]

BILLING CODE 4510-30-P